DEPARTMENT OF COMMERCE

International Trade Administration

[C-570-926]

Sodium Nitrite From the People's Republic of China: Final Results of the Expedited First Sunset Review of the Countervailing Duty Order

AGENCY: Enforcement and Compliance, formerly Import Administration, International Trade Administration, Department of Commerce.

DATES: Effective Date: November 20, 2013.

SUMMARY: The Department of Commerce (“the Department”) finds that revocation of the countervailing duty (“CVD”) order on sodium nitrite from the People's Republic of China (“PRC”) would be likely to lead to the continuation or recurrence of net countervailable subsidies.

FOR FURTHER INFORMATION CONTACT: Jacqueline Arrowsmith or Myrna Lobo, AD/CVD Operations, Office VII, Enforcement and Compliance, International Trade Administration, U.S. Department of Commerce, 14th Street and Constitution Avenue NW., Washington, DC 20230; telephone: (202) 482-5255 or 482-2371, respectively.

SUPPLEMENTARY INFORMATION:

Background

On July 1, 2013, the Department initiated the first sunset review of the CVD order on sodium nitrite from the PRC, pursuant to section 751(c) of the Tariff Act of 1930, as amended (“the Act”).¹ The Department received a notice of intent to participate from General Chemical LLC, (“Petitioner”), within the deadline specified in 19 CFR 351.218(d)(1)(i). The Department also received an adequate substantive response to the notice of initiation from domestic interested parties, i.e., Petitioner, within the 30-day deadline specified in 19 CFR 351.218(d)(3)(i). The Department did not receive submissions from other interested parties. As a result, pursuant to 19 CFR 351.218(e)(1)(ii)(C)(2), the Department is conducting an expedited (120-day) sunset review of the CVD Order.

¹ See Initiation of Five-Year (“Sunset”) Reviews, 78 FR 39256 (July 1, 2013); see also Sodium Nitrite from the People's Republic of China: Countervailing Duty Order, 73 FR 50595 (August 27, 2008) (“CVD Order”).

As explained in the memorandum from the Assistant Secretary for Enforcement and Compliance, the Department has exercised its discretion to toll deadlines for the duration of the closure of the Federal Government from October 1, through October 16, 2013.² Therefore, all deadlines in this segment of the proceeding have been extended by 16 days.

² See Memorandum for the Record from Paul Piquado, Assistant Secretary for Enforcement and Compliance, “Deadlines Affected by the Shutdown of the Federal Government.”

Scope of the Order

The merchandise covered by this order is sodium nitrite in any form, at any purity level. A full description of the scope of the order is contained in the Decision Memorandum.³

³ See “Issues and Decision Memorandum for the Final Results of the Expedited First Sunset Review of the Countervailing Duty Order on Sodium Nitrite from the People's Republic of China,” from Christian Marsh, Deputy Assistant Secretary for Antidumping and Countervailing Duty Operations, to Ronald K. Lorentzen, Acting Assistant Secretary for Enforcement and Compliance, dated concurrently with and hereby adopted by this notice (“Decision Memorandum”).

The Decision Memorandum is a public document and is on file electronically via Enforcement and Compliance's centralized electronic service system (“IA ACCESS”). IA ACCESS is available to registered users at http://iaaccess.trade.gov and in the Department's Central Records Unit, room 7046 of the main Department of Commerce building. In addition, a complete version of the Decision Memorandum can be accessed directly on the Internet at http://enforcement.trade.gov/frn/index.html. The signed Decision Memorandum and the electronic versions of the Decision Memorandum are identical in content.

Analysis of Comments Received

All issues raised in this review are addressed in the Decision Memorandum. The issues include the likelihood of continuation or recurrence of a countervailable subsidy, and the net countervailable subsidy likely to prevail if the order was revoked.

Final Results of Review

Pursuant to sections 752(b)(1) and (3) of the Act, the Department determines that revocation of the CVD order on sodium nitrite from the PRC would be likely to lead to continuation or recurrence of countervailable subsidies at the following net countervailable subsidy rates:

Manufacturers/exporters/ producers | Net countervailable subsidy rate (percent)
Shanxi Jiaocheng Hongxing Chemical Co., Ltd. (Shanxi Jiaocheng) | 169.01
Tianjin Soda Plant Tianjin Port Free Trade Zone Pan Bohai International Trading Co., Ltd. (Tianjin Soda Plant) | 169.01
All others | 169.01

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: November 13, 2013.
Ronald K. Lorentzen,
Acting Assistant Secretary for Enforcement and Compliance.

[FR Doc. 2013-27828 Filed 11-19-13; 8:45 am]

BILLING CODE 3510-DS-P